DEPARTMENT OF STATE

[Public Notice: 10848 ]

Notice of Determinations; Culturally Significant Objects Imported for Exhibition—Determinations: “Christ: Life, Death, and Resurrection, Italian Renaissance Drawings and Prints From the British Museum” Exhibition

SUMMARY: Notice is hereby given of the following determinations: I hereby determine that certain objects to be included in the exhibition “Christ: Life, Death, and Resurrection, Italian Renaissance Drawings and Prints from the British Museum,” imported from abroad for temporary exhibition within the United States, are of cultural significance. The objects are imported pursuant to loan agreements with the foreign owner or custodian. I also determine that the exhibition or display of the exhibit objects at the University of San Diego's University Galleries, San Diego, California, under the title “Christ: Life, Death, and Resurrection,” from on or about September 13, 2019, until on or about December 13, 2019; at the Timken Museum of Art, San Diego, California, under the title “Masterpieces of Italian Drawings from the British Museum,” from on or about September 6, 2019, until on or about December 15, 2019; at the New Mexico Museum of Art, Santa Fe, New Mexico, under the title “The Birth, Death and Resurrection of Christ: from Michelangelo to Tiepolo,” from on or about January 25, 2020, until on or about April 19, 2020; and at possible additional exhibitions or venues yet to be determined, is in the national interest. I have ordered that Public Notice of these determinations be published in the Federal Register.

FOR FURTHER INFORMATION CONTACT: Chi D. Tran, Paralegal Specialist, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Marie Therese Porter Royce,
Assistant Secretary, Bureau of Educational and Cultural Affairs, Department of State.

[FR Doc. 2019-17546 Filed 8-14-19; 8:45 am]

BILLING CODE 4710-05-P